DEPARTMENT OF THE INTERIOR

National Park Service

National Register of Historic Places; Notification of Pending Nominations and Related Actions

Nominations for the following properties being considered for listing or related actions in the National Register were received by the National Park Service before December 19, 2009. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by January 28, 2010.

Alexandra Lord,
Acting Chief, National Register of Historic Places/National Historic Landmarks Program.

California

Monterey County

USS MACON (airship remains), Address Restricted, Big Sur, 09001274.

Colorado

Las Animas County

Latuda, Frank, House, 431 W. Colorado Ave., Trinidad, 09001275.

Montrose County

Denver & Rio Grande Western Railroad Stock Car No. 5620, 82800Q 83rd Rd., Cimarron Visitor Center, Curecanti National Recreation Area, Cimarron, 09001276.

Denver & Rio Grande Western Railroad Stock Car No. 5679D, 82800Q 83rd Rd., Cimarron Visitor Center, Curecanti National Recreation Area, Cimarron, 09001277.

Florida

Alachua County

Jones, A. Quinn, House, 1013 NW. 7th Ave., Gainesville, 09001278.

Idaho

Canyon County

Hat, The, 2112 Cleveland Blvd., Caldwell, 09001279.

Latah County

Bovill Opera House, (Motion Picture Theater Buildings in Idaho MPS) 412 2nd Ave., Bovill, 09001280.

Cox Barn, (Agricultural Properties of Latah County, Idaho) 1290 American Ridge Rd., Kendrick, 09001281.

Maryland

Allegany County

Klots Throwing Company Mill, 917 Gay St., Cumberland, 09001282.

New York

Columbia County

Hillsdale Hamlet Historic District, NY Rts. 22 & 23, Anthony, Cold Water & Maple Sts., Old Town & Pill Hill Rds., Hillsdale, 09001283.

Delaware County

Main Street Historic District, Main, N. & S. Center, John Sts. & Dutchess, Park, S. Maple & Elm Aves., Millerton, 09001284.

Monroe County

Sage, Simeon, House, 69 Main St., Scottsville, 09001285.

New York

Oneida County

First Methodist Episcopal Church of Rome, 400 N. George St., Rome, 09001286.

Rockland County

Brook Chapel, 6th St., Hillburn, 09001287.

Suffolk County

Fire Island Light Station Historic District, (Light Stations of the United States MPS) Burma Rd., Fire Island, 09001288.

Puerto Rico

Trujillo Alto Municipality

Puente de Trujillo Alto, (Historic Bridges of Puerto Rico MPS) PR 181, km. 5.6, Trujillo Alto, 09001289.

Rhode Island

Kent County

Hopkins Hollow Village, Hopkins Hollow Rd., Narrow Ln., Perry Hill Rd., Coventry and W. Greenwich, 09001290.

Utah

Salt Lake County

Altadena Apartments, (Salt Lake City MPS) 310 S. 300 E., Salt Lake City, 09001291.

Sampson Apartments, (Salt Lake City MPS) 276 E. 300 S., Salt Lake City, 09001292.

Utah County

Chipman, Henry & Elizabeth Parker, House, 846 E. 300 N., American Fork, 09001293.

Dunn-Binnall House & Farmstead, 352 N. 200 E., American Fork, 09001294.

Washington

Whatcom County

South Hill Historic District, Bounded by Knox, 11th, State, Cedar, 17th, and Highland, Bellingham, 09001296.

York Historic District, Bounded roughly by Ellis St., Meador Ave., 1-5, and Lakeway Dr., Bellingham, 09001297.

Wisconsin

Dodge County

St. Andrew's Church, W3081 Co. Hwy Y, LeRoy, 09001295.

[FR Doc. 2010-431 Filed 1-12-10; 8:45 am]

BILLING CODE P